DEPARTMENT OF TRANSPORTATION

Office of the Secretary; Notice of Applications for Certificates of Public Convenience and Necessity and Foreign Air Carrier Permits Filed Under Subpart B (formerly Subpart Q) during the Week Ending May 19, 2000

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: OST-1999-6246.

Date Filed: May 18, 2000.

Due Date for Answers, Conforming Applications, or Motion to Modify Scope: June 8, 2000.

Description: Motion of Delta Air Lines, Inc. for leave to file and Supplement #3, pursuant to 49 U.S.C. 41102 and 41108 and Subpart B, supplementing its September 21, 1999, certificate application by adding Turks and Caicos to the list of countries included in Exhibit A (Revised), attached to Supplement #2 to Delta's application, filed December 29, 1999.

Dorothy Y. Beard,
Federal Register Liaison.

[FR Doc. 02-7718 Filed 4-3-02; 8:45 am]

BILLING CODE 4910-62-P